DEPARTMENT OF COMMERCE

International Trade Administration

[A-201-844]

Steel Concrete Reinforcing Bar From Mexico: Final Results of Antidumping Duty Administrative Review; 2015-2016

AGENCY: Enforcement and Compliance, International Trade Administration, Department of Commerce.

SUMMARY: The Department of Commerce (Commerce) determines that Deacero S.A.P.I de C.V. (Deacero) and exporters of steel concrete reinforcing bar from Mexico did not make sales of subject merchandise at less than normal value during the period of review (POR) November 1, 2015, through October 31, 2016.

DATES: Applicable June 14, 2018.

FOR FURTHER INFORMATION CONTACT: Stephanie Moore, AD/CVD Operations, Office III, Enforcement and Compliance, U.S. Department of Commerce, 1401 Constitution Avenue NW, Washington, DC 20230; telephone: (202) 482-3692.

SUPPLEMENTARY INFORMATION:

Background

Commerce published the Preliminary Results of this administrative review on December 6, 2017.¹ We invited interested parties to comment on the Preliminary Results. On January 8, 2018, Commerce received a timely filed case brief from the Petitioner,² and on January 11, 2018, Commerce received a timely filed rebuttal brief from Deacero.³ On February 8, 2018, Commerce officials met with counsel for the Petitioner.⁴

¹ See Steel Concrete Reinforcing Bar from Mexico: Preliminary Results of Antidumping Duty Administrative Review and Preliminary Determination of No Shipments; 2015-2016, 82 FR 57581 (December 6, 2017) (Preliminary Results).

² Petitioner is the Rebar Trade Action Coalition and its individual members. The individual members are Nucor Corporation, Gerdau Ameristeel U.S. Inc., Commercials Metals Company, Cascade Steel Rolling Mills, Inc., and Byer Steel Group, Inc.

³ See Petitioner's Letter, “Steel Concrete Reinforcing Bar from Mexico: Case Brief and Request for Hearing” (Petitioner Case Brief), dated January 5, 2018; Deacero's Letter, “Steel Concrete Reinforcins from Mexico—Rebuttal Brief” (Deacero Rebuttal Brief), dated January 10, 2018.

⁴ See Memorandum to the File, “Steel Concrete Reinforcing Bar from Mexico: Ex-Parte Meeting,” dated February 9, 2018, and Memorandum to the File, “Steel Concrete Reinforcing Bar from Mexico: Hearing,” dated May 7, 2018.

On January 23, 2018, Commerce exercised its discretion to toll all deadlines affected by the closure of the Federal Government from January 20 through 22, 2018.⁵ On March 22, 2018, Commerce extended the deadline for these final results. The revised deadline for the final results of this review is now June 7, 2018.

⁵ See Memorandum for The Record from Christian Marsh, Deputy Assistant Secretary for Enforcement and Compliance, performing the non-exclusive functions and duties of the Assistant Secretary for Enforcement and Compliance, “Deadlines Affected by the Shutdown of the Federal Government” (Tolling Memorandum), dated January 23, 2018. All deadlines in this segment of the proceeding have been extended by 3 days.

Scope of the Order

Imports covered by the order are shipments of steel concrete reinforcing bar imported in either straight length or coil form (rebar) regardless of metallurgy, length, diameter, or grade. The merchandise subject to review is currently classifiable under items 7213.10.0000, 7214.20.0000, and 7228.30.8010. The subject merchandise may also enter under other Harmonized Tariff Schedule of the United States (HTSUS) numbers including 7215.90.1000, 7215.90.5000, 7221.00.0017, 7221.00.0018, 7221.00.0030, 7221.00.0045, 7222.11.0001, 7222.11.0057, 7222.11.0059, 7222.30.0001, 7227.20.0080, 7227.90.6085, 7228.20.1000, and 7228.60.6000. Although the HTSUS subheadings are provided for convenience and customs purposes, the written description of the merchandise subject to the order is dispositive.⁶

⁶ For a full description of the scope of the order, see the “Decision Memorandum for the Final Results of Antidumping Duty Administrative Review: Steel Concrete Reinforcing Bar from Mexico; 2015-2016,” from James Maeder, Deputy Assistant Secretary for Antidumping and Countervailing Duty Operations, to Gary Taverman, Assistant Secretary for Enforcement and Compliance, dated concurrently with this notice (Final Decision Memorandum).

Duty Absorption

As noted in the Preliminary Results, Commerce applied facts available and an adverse inference pursuant to sections 776(a) and (b) of the Tariff Act of 1930 (the Act) and found that duty absorption exists on all U.S. sales of the subject merchandise exported by Deacero. Commerce's position on this issue remains unchanged in these final results of administrative review.

Final Determination of No Shipments

As noted in the Preliminary Results, we received no-shipment claims from Grupo Simec ⁷ and ArcelorMittal,⁸ companies named in the Initiation Notice, and we confirmed the claims with U.S. Customs and Border Protection (CBP). Following publication of the Preliminary Results, we received no comments from interested parties regarding these companies. As a result, and because the record contains no evidence to the contrary, we continue to find that Grupo Simec and ArcelorMittal made no shipments during the POR. Accordingly, consistent with Commerce's practice, we will instruct U.S. Customs and Border Protection (CBP) to liquidate any existing entries of merchandise produced by these two companies, but exported by other parties, at the rate for the intermediate reseller, if available, or at the all-others rate.

⁷ Grupo Simec and Orge S.A. de C.V. (collectively, Grupo Simec).

⁸ ArcelorMittal Lazaro Cardenas, SA. de CV. (which became ArcelorMittal Mexico, S.A, de CV. on March 31, 2014), ArcelorMittal Celaya, SA. de CV., and ArcelorMittal Cordoba, SA. de CV. (collectively, ArcelorMittal).

Analysis of Comments Received

All issues raised in the case and rebuttal brief by parties to this administrative review are addressed in the Issues and Decision Memorandum. A list of the issues that parties raised and to which we responded is attached to this notice as an Appendix. The Issues and Decision Memorandum is a public document and is on-file electronically via Enforcement and Compliance's Antidumping and Countervailing Duty Centralized Electronic Service System (ACCESS). ACCESS is available to registered users at https://access.trade.gov and in the Central Records Unit (CRU), Room B8024 of the main Department of Commerce building. In addition, a complete version of the Issues and Decision Memorandum can be accessed directly on the internet at http://enforcement.trade.gov/frn/index.html. The signed Issues and Decision Memorandum and the electronic versions of the Issues and Decision Memorandum are identical in content.

Changes Since the Preliminary Results

Based on a review of the record and comments received from interested parties regarding our Preliminary Results, we made no changes to Deacero's final rate calculations. For a discussion of these issues, see the Issues and Decision Memorandum.

Final Results of the Review

As a result of this review, we calculated a dumping margin of zero percent for Deacero. We are applying to the non-selected companies the rate calculated for Deacero, the sole mandatory respondent in these final results for the period November 1, 2015, through October 31, 2016:

Producer and/or exporter | Weighted- average dumping margin (percent)
Deacero S.A.P.I. de C.V | 0.00
Industrias CH | 0.00
Ternium Mexico, S.A. de C.V | 0.00
Cia Siderurgica De California, S.A. de C.V | 0.00
Grupo Acerero S.A. de C.V | 0.00
AceroMex S.A | 0.00
Siderurgica Tultitlan S.A. de C.V | 0.00
Talleres y Aceros, S.A. de C.V | 0.00
Grupo Villacero S.A. de C.V | 0.00

Disclosure

We will disclose the calculations performed to parties in this proceeding within five days of the date of publication of this notice, in accordance with 19 CFR 351.224(b).

Duty Assessment

Commerce shall determine and Customs and Border Protection (CBP) shall assess antidumping duties on all appropriate entries.⁹ For Deacero, because its weighted-average dumping margin is zero or de minimis (i.e., less than 0.5 percent), Commerce has not calculated importer-specific antidumping duty assessment rates. Pursuant to 19 CFR 351.106(c)(2), we will instruct CBP to liquidate without regard to antidumping duties any entries for which the importer-specific assessment rate is zero or de minimis. Because we calculated a zero margin for Deacero in the final results of this review, we intend to instruct CBP to liquidate the appropriate entries without regard to antidumping duties.¹⁰

⁹ In these final results, Commerce applied the assessment rate calculation method adopted in Antidumping Proceedings: Calculation of the Weighted-Average Dumping Margin and Assessment Rate in Certain Antidumping Proceedings: Final Modification, 77 FR 8101 (February 14, 2012) (Final Modification for Reviews).

¹⁰ Id.

We intend to issue assessment instructions directly to CBP 41 days after publication of the final results of this review.

Cash Deposit Requirements

The following cash deposit requirements will be effective upon publication of the notice of final results of administrative review for all shipments of subject merchandise entered, or withdrawn from warehouse, for consumption on or after the publication of the final results of this administrative review, as provided by section 751(a)(2)(C) of the Act: (1) The cash deposit rate for respondents noted above will be zero; (2) for merchandise exported by producers or exporters not covered in this administrative review but covered in a prior segment of the proceeding, the cash deposit rate will continue to be the company-specific rate published for the most recently completed segment of this proceeding; (3) if the exporter is not a firm covered in this review, a prior review, or the original investigation, but the producer is, the cash deposit rate will be the rate established for the most recently completed segment of this proceeding for the producer of the subject merchandise; and (4) the cash deposit rate for all other producers or exporters will continue to be 20.58 percent, the all-others rate established in the antidumping investigation.¹¹ These cash deposit requirements, when imposed, shall remain in effect until further notice.

¹¹ See Steel Concrete Reinforcing Bar from Mexico: Final Determination of Sales at Less Than Fair Value and Final Affirmative Determination of Critical Circumstances, 79 FR 54967 (September 15, 2014).

Notification to Importers Regarding the Reimbursement of Duties

This notice also serves as a final reminder to importers of their responsibility under 19 CFR 351.402(f) to file a certificate regarding the reimbursement of antidumping duties prior to liquidation of the relevant entries during the POR. Failure to comply with this requirement could result in Commerce's presumption that reimbursement of antidumping duties occurred and the subsequent assessment of doubled antidumping duties.

Administrative Protective Order

This notice also serves as a reminder to parties subject to administrative protective orders (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

We are issuing and publishing this notice in accordance with sections 751(a)(1) and 777(i)(1) of the Act and 19 CFR 351.213(h) and 19 CFR 351.221(b)(5).

Dated: June 7, 2018.
Gary Taverman,
Deputy Assistant Secretary for Antidumping and Countervailing Duty Operations, performing the non-exclusive functions and duties of the Assistant Secretary for Enforcement and Compliance.

Appendix

List of Topics Discussed in the Final Decision Memorandum

I. Summary

II. List of Comments

III. Background

IV. Scope of the Order

V. Duty Absorption

VI. Final Determination of No Shipments

VII. Analysis of Comments

Comment 1: Whether a Particular Market Situation Exists Regarding Deacero's Purchase of Electricity

Comment 2: Treatment of Non-Prime Merchandise Reported by Deacero

VIII. Recommendation

[FR Doc. 2018-12771 Filed 6-13-18; 8:45 am]

BILLING CODE 3510-DS-P